ARCHITECTURAL AND TRANSPORTATION BARRIERS COMPLIANCE BOARD

36 CFR Parts 1193 and 1194

Telecommunications Act Accessibility Guidelines; Electronic and Information Technology Accessibility Standards

AGENCY: Architectural and Transportation Barriers Compliance Board.

ACTION: Notice of meeting.

SUMMARY: The Architectural and Transportation Barriers Compliance Board (Access Board) has established a Telecommunications and Electronic and Information Technology Advisory Committee (Committee) to assist it in revising and updating accessibility guidelines for telecommunications products and accessibility standards for electronic and information technology. This notice announces the dates, time, and location of the next committee meeting.

DATES: The meeting is scheduled for July 16-18, 2007 (beginning at 9 a.m. and ending at 5 p.m. each day).

ADDRESSES: The meeting will be held at the National Science Foundation. Report to the National Science Foundation, 4201 Wilson Boulevard, Arlington, VA 22230, to pick up security passes and then report to 4121 Wilson Boulevard, Stafford Place II, Room 555, Arlington, VA 22230 for the meeting.

FOR FURTHER INFORMATION CONTACT: Timothy Creagan, Office of Technical and Information Services, Architectural and Transportation Barriers Compliance Board, 1331 F Street, NW., suite 1000, Washington, DC 20004-1111. Telephone number: 202-272-0016 (Voice); 202-272-0082 (TTY). Electronic mail address: creagan@access-board.gov.

SUPPLEMENTARY INFORMATION: The Architectural and Transportation Barriers Compliance Board (Access Board) established the Telecommunications and Electronic and Information Technology Advisory Committee (Committee) to assist it in revising and updating accessibility guidelines for telecommunications products and accessibility standards for electronic and information technology. The next committee meeting will take place on July 16-18, 2007. The meeting will focus on reports and discussion of recommendations from the following subcommittees:

• Software, Web, and Content

• General Interface Requirements and Functional Performance Criteria

• Computer Hardware

• Subpart A

• Documentation and Technical Support

• Telecommunications

• Audio/Visual

• Self Contained, Closed Products

• Editorial Working Group

The meeting will also discuss the status of the committee's work to date and when a final report may be ready for presentation to the Access Board. The full agenda for the July 16-18, 2007 meeting is available at http://www.access-board.gov/sec508/refresh/agenda.htm. Notices of future meetings will be published in the Federal Register.

Information about the committee, including future meeting dates is available at http://www.access-board.gov/sec508/update-index.htm or at a special Web site created for the committee's work (http://teitac.org). The site includes a calendar for subcommittee meetings, e-mail distribution lists, and a “Wiki” (http://teitac.org/wiki/TEITAC_Wiki) which provides interactive online work space.

Committee meetings are open to the public and interested persons can attend the meetings and communicate their views. Members of the public will have opportunities to address the committee on issues of interest to them and the committee during public comment periods scheduled on each day of the meeting. Members of groups or individuals who are not members of the committee are invited to participate on subcommittees; participation of this kind is very valuable to the advisory committee process.

The meeting site is accessible to individuals with disabilities. Sign language interpreters, an assistive listening system, and real-time captioning will be provided. For the comfort of other participants, persons attending committee meetings are requested to refrain from using perfume, cologne, and other fragrances. Due to security measures at the National Science Foundation, all attendees must notify the Access Board's receptionist at 202-272-0007 or receptionist@access-board.gov by July 11, 2007 of their intent to attend the meeting. This notification is required for expeditious entry into the facility and will enable the Access Board to provide additional information as needed.

Lawrence W. Roffee,
Executive Director.

[FR Doc. E7-12811 Filed 7-2-07; 8:45 am]

BILLING CODE 8150-01-P